DEPARTMENT OF COMMERCE

International Trade Administration

[C-489-819]

Steel Concrete Reinforcing Bar From the Republic of Turkey: Notice of Partial Rescission of Countervailing Duty Administrative Review, 2015

AGENCY: Enforcement and Compliance, International Trade Administration, Department of Commerce.

SUMMARY: On January 13, 2017, the Department of Commerce (the Department) initiated an administrative review of the countervailing duty (CVD) order on steel concrete reinforcing bar (rebar) from the Republic of Turkey (Turkey). Based on a timely withdrawal of requests for review, we are rescinding this administrative review with respect to the following three companies: DufEnergy Trading SA (formerly known as Duferco Investment Services SA) (DufEnergy), Duferco Celik Ticaret Limited (Duferco Celik), and Ekinciler Demir ve Celik Sanayi A.S. (Ekinciler Demir).

DATES: Effective June 15, 2017.

FOR FURTHER INFORMATION CONTACT: Kristen Johnson, AD/CVD Operations, Office III, Enforcement and Compliance, International Trade Administration, U.S. Department of Commerce, 1401 Constitution Avenue NW., Washington, DC 20230; telephone: (202) 482-4793.

SUPPLEMENTARY INFORMATION:

Background

On November 4, 2016, the Department published a notice of opportunity to request an administrative review of the CVD order on rebar from Turkey for the period January 1, 2015, through December 31, 2015.¹ On November 23, 2016, the Department received letters from Colakoglu Metalurji A.S., Icdas Celik Enerji Tersane ve Ulasim Sanayi A.S., and Kaptan Demir Celik Endustrisi ve Ticaret A.S., respectively, requesting an administrative review.² On November 30, 2016, the Department received a letter from the Rebar Trade Action Coalition (RTAC, or the petitioner) ³ requesting a review of 19 exporters and/or producers of subject merchandise.⁴ On January 13, 2017, the Department published a notice of initiation of administrative review for this CVD order.⁵ On April 13, 2017, the petitioner submitted a timely withdrawal of its request for review of DufEnergy, Duferco Celik, and Ekinciler Demir.⁶

¹ See Antidumping or Countervailing Duty Order, Finding, or Suspended Investigation; Opportunity to Request Administrative Review, 81 FR 76920 (November 4, 2016).

² See Colakoglu Metalurji A.S.' November 23, 2016 Request for CVD Administrative Review; Icdas Celik Enerji Tersane ve Ulasim Sanayi A.S.' November 23, 2016 Request for CVD Administrative Review; and Kaptan Demir Celik Endustrisi ve Ticaret A.S.' November 23, 2016 Request for CVD Administrative Review.

³ The individual members of RTAC are Nucor Corporation, Gerdau Ameristeel US Inc., Commercial Metals Company, Byer Steel Group, Inc., and Steel Dynamics, Inc.

⁴ See Petitioner's November 30, 2016 Request for Administrative Review.

⁵ See Initiation of Antidumping and Countervailing Duty Administrative Reviews, 82 FR 4294 (January 13, 2017) (Initiation Notice).

⁶ See Petitioner's April 13, 2017 Withdrawal of Requests for Administrative Review.

Partial Rescission of the 2015 Administrative Review

Pursuant to 19 CFR 351.213(d)(1), the Secretary will rescind an administrative review, in whole or in part, if the parties that requested a review withdraw the request within 90 days of the date of publication of the notice of initiation. The Department published the Initiation Notice for this administrative review on January 13, 2017. The petitioner timely withdrew its request for a review of DufEnergy, Duferco Celik, and Ekinciler Demir within the 90-day period. No other party requested an administrative review of these particular companies. Therefore, in accordance with 19 CFR 351.213(d)(1), and consistent with our practice,⁷ we are rescinding this review of the CVD order on rebar from Turkey with respect to DufEnergy, Duferco Celik, and Ekinciler Demir. This review will continue with respect to all other firms for which a review was requested and initiated.

⁷ See, e.g., Certain Lined Paper Products from India: Notice of Partial Rescission of Countervailing Duty Administrative Review; 2014, 81 FR 7082 (February 10, 2016).

Assessment

The Department will instruct Customs and Border Protection (CBP) to assess countervailing duties on all appropriate entries at a rate equal to the cash deposit of estimated countervailing duties required at the time of entry, or withdrawal from warehouse, for consumption, during the period January 1, 2015, through December 31, 2015, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return or destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: June 9, 2017.
Gary Taverman,
Deputy Assistant Secretary for Antidumping and Countervailing Duty Operations.

[FR Doc. 2017-12409 Filed 6-14-17; 8:45 am]

BILLING CODE 3510-DS-P